DEPARTMENT OF AGRICULTURE

Forest Service

Rogue River-Siskiyou National Forest and Umpqua National Forest; Oregon; Stella Landscape Restoration Project

AGENCY: Forest Service, USDA.

ACTION: Notice of intent to prepare an Environmental Impact Statement; correction and extension of comment period.

SUMMARY: The USDA Forest Service, Rogue River-Siskiyou National Forest (RRSNF) published in the Federal Register on May 11, 2018 a Notice of Intent (NOI) to prepare an Environmental Impact Statement (EIS) for the Stella Landscape Restoration Project. The NOI referenced an incorrect project website address; this notice provides a technical correction to the NOI, and extends the scoping comment period.

DATES: To allow more time to review materials at the corrected website, comments concerning the scope of the analysis must be received by July 6, 2018. The Draft EIS is expected in spring of 2019 and the Final EIS is expected in spring of 2020.

ADDRESSES: Send written comments to David Palmer, District Ranger, High Cascade Ranger District, 47201 Hwy 62, Prospect, OR 97536. Comments may be submitted electronically at comments-pacificnorthwest-rogueriver-highcascades@fs.fed.us. Comments may also be sent via facsimile to 541-560-3444 or submitted in person during regular business hours, Monday-Friday, 8:00 a.m.-4:30 p.m. at the address listed above.

FOR FURTHER INFORMATION CONTACT: Anne Trapanese, Environmental Coordinator atrapanese@fs.fed.us, 541-560-3433.

SUPPLEMENTARY INFORMATION: Individuals who use telecommunication devices for the deaf may call the Federal Information Relay Service at 1-800-877-8339 between 8 a.m. and 8 p.m., Eastern Time, Monday through Friday.

Correction

In the Federal Register on May 11, 2018 (83 FR 22002), second column under the sub-heading “Scoping Process,” correct the project website included in the last line of the sub-heading to read: http://www.fs.fed.us/nepa/nepa_project_exp.php?project=53241.

Dated: May 21, 2018.
Chris French,
Associate Deputy Chief, National Forest System.

[FR Doc. 2018-12173 Filed 6-5-18; 8:45 am]

BILLING CODE 3411-15-P